COMMITTEE FOR THE IMPLEMENTATION OF TEXTILE AGREEMENTS

Availability of the Correlation: Textile and Apparel Categories With the Harmonized Tariff Schedule of the United States for 2001

December 21, 2000.

AGENCY: Committee for the Implementation of Textile Agreements (CITA).

ACTION: Notice.

FOR FURTHER INFORMATION CONTACT: Lori E. Mennitt, International Trade Specialist, Office of Textiles and Apparel, U.S. Department of Commerce, (202) 482-3400.

SUPPLEMENTARY INFORMATION: The Committee for the Implementation of Textile Agreements (CITA) announces that the 2001 Correlation, based on the Harmonized Tariff Schedule of the United States, will be available in January 2001 as part of the Office of Textiles and Apparel (OTEXA) CD-Rom publications.

The CD-Rom may be purchased from the U.S. Department of Commerce, Office of Textiles and Apparel, 14th and Constitution Avenue, NW., room H3100, Washington, DC 20230, ATTN: Barbara Anderson, at a cost of $25. Checks or money orders should be made payable to the U.S. Department of Commerce. The Correlation is also available on the OTEXA website at http://otexa.ita.doc.gov.

Richard B. Steinkamp,
Chairman, Committee for the Implementation of Textile Agreements.

[FR Doc.00-33049 Filed 12-27-00; 8:45 am]

BILLING CODE 3510-DR-F